DEPARTMENT OF AGRICULTURE

National Agricultural Statistics Service

Notice of Intent To Request Revision and Extension of a Currently Approved Information Collection

AGENCY: National Agricultural Statistics Service, USDA.

ACTION: Notice and request for comments.

SUMMARY: In accordance with the Paperwork Reduction Act of 1995, this notice announces the intention of the National Agricultural Statistics Service (NASS) to request revision and extension of a currently approved information collection, the Aquaculture Surveys. Revision to burden hours may be needed due to changes in the size of the target population, sampling design, and/or questionnaire length.

DATES: Comments on this notice must be received by July 16, 2007 to be assured of consideration.

ADDRESSES: You may submit comments, identified by docket number 0535-0150, by any of the following methods:

• E-mail: gmcbride@nass.usda.gov. Include docket number above in the subject line of the message.

• Fax: (202) 720-6396.

• Mail or Hand Deliver: Mail deliver any paper, disk, or CD-ROM submissions to: Ginny McBride, NASS Clearance Officer, U.S. Department of Agriculture, Room 5336 South Building, 1400 Independence Avenue, SW., Washington, DC 20250-2024.

FOR FURTHER INFORMATION CONTACT: Joseph T. Reilly, Associate Administrator, National Agricultural Statistics Service, U.S. Department of Agriculture, (202) 720-4333.

SUPPLEMENTARY INFORMATION: Title: Aquaculture Surveys.

OMB Control Number: 0535-0150.

Expiration Date of Approval: September 30, 2007.

Type of Request: To revise and extend a currently approved information collection.

Abstract: The primary objective of the National Agricultural Statistics Service is to prepare and issue State and national estimates of crop and livestock production, prices, and disposition. The Aquaculture Surveys collect information on trout and catfish; trout surveys include water surface acreage and sales, and catfish surveys include inventory, water surface acreage, sales, catfish processed, and catfish feed. Survey results are used by government agencies in planning farm programs.

• Twenty States are in the trout growers survey. In January, previous year trout sales data are collected from farmers, and distributed fish data are collected from State and federal hatcheries.

• Eleven States are in the catfish growers survey. Data are collected from farmers in January for January inventory, water surface acreage, and previous year sales. In addition, farmers in the four major catfish producing States are surveyed in July for mid-year inventory and water surface acreage.

• All twenty catfish processing plants across the nation are in the catfish processing survey. Plants are surveyed monthly for amount purchased, prices paid, amount sold, prices received, and end-of-month inventories.

• Fourteen catfish millers are surveyed monthly for the amount of feed delivered for food-size fish and fingerlings and broodfish.

Authority: These data will be collected under the authority of 7 U.S.C. 2204(a). Individually identifiable data collected under this authority are governed by Section 1770 of the Food Security Act of 1985, 7 U.S.C. 2276, which requires USDA to afford strict confidentiality to non-aggregated data provided by respondents. This Notice is submitted in accordance with the Paperwork Reduction Act of 1995, 44 U.S.C. 3506(c)(2)(A), and Office of Management and Budget regulations at 5 CFR part 1320 (60 FR 44978).

Estimate of Burden: Public reporting burden for this collection of information is estimated to average 15 minutes per response with 1.5 responses per respondent.

Respondents: Farms, feed mills and processors.

Estimated Number of Respondents: 2,200.

Estimated Total Annual Burden on Respondents: 825 hours.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, April 20, 2007.
Joseph T. Reilly,
Associate Administrator.

[FR Doc. E7-9241 Filed 5-14-07; 8:45 am]

BILLING CODE 3410-20-P